DEPARTMENT OF THE INTERIOR

National Park Service

[NPS-WASO-NAGPRA-NPS0039574; PPWOCRADN0-PCU00RP14.R50000]

Notice of Intended Disposition: U.S. Department of Agriculture, Forest Service, Coronado National Forest, Tucson, AZ

AGENCY: National Park Service, Interior.

ACTION: Notice.

SUMMARY: In accordance with the Native American Graves Protection and Repatriation Act (NAGPRA), the U.S. Department of Agriculture, Forest Service, Coronado National Forest intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after April 18, 2025. If no claim for disposition is received by March 19, 2026, the human remains or cultural items in this notice will become unclaimed human remains or cultural items.

ADDRESSES: David Mehalic, Coronado National Forest, Supervisor's Office, 300 W Congress Street, Tucson, AZ 85701, telephone (520) 388-8395, email david.mehalic@usda.gov.

SUPPLEMENTARY INFORMATION: This notice is published as part of the National Park Service's administrative responsibilities under NAGPRA. The determinations in this notice are the sole responsibility of the Coronado National Forest, and additional information on the human remains or cultural items in this notice, including the results of consultation, can be found in the related records. The National Park Service is not responsible for the identifications in this notice.

Abstract of Information Available

The 47 objects of cultural patrimony are ceramic sherds. Eight of the sherds are Mimbres Classic Black-on-white, two sherds are corrugated brownwares, eight sherds are undecorated whitewares, and 29 sherds are undecorated brownwares or buffwares. These materials were gathered from Forest Service site number AR03-05-04-101. This site is informally known as Hawk Peak Shrine. AR03-05-04-101 contains an oval hole surrounded by a rock ring and cairn and is interpreted to be a shrine associated with Mogollon use of the area. This site is located on the summit of a high-altitude peak in the Pinaleño Mountains, approximately 13 miles southwest of Safford, Arizona. The site is located on lands administered by the Coronado National Forest, in the Safford Vista Ranger District within Graham County, Arizona. On May 23, 2000, four ceramics were gathered from the surface of AR03-05-04-101. In addition to material gathered in 2000, ceramics associated with the site were gathered on October 20, 1987.

Based on the information available, human remains representing, at least, two individuals have been reasonably identified. No associated funerary objects are present. The two individuals were identified in faunal collections at the Arizona State Museum (ASM) associated with Forest Service site number AR03-05-05-213. This site is informally known as the Romero Site because of the Historic occupation of the Romero Family ca. 1844. The site is also a large Hohokam site with an occupation dating from A.D. 425 to A.D. 1450. The site is located on lands administered by the Coronado National Forest, Santa Catalina Ranger District and permitted to the State of Arizona for Catalina State Park. The site location is in Pima County, AZ.

In 1987, the Institute for American Research (Desert Archaeology) conducted an archaeological collection survey in Catalina State Park, focusing on the site. All artifacts, reports, and photo material were curated at ASM. Additional test excavations were conducted in 1990 and 1993 and all archaeological material was curated at ASM. This collection went through repatriation and disposition by ASM to the Tohono O'odham Nation on behalf of Coronado National Forest in 2009 (ASM #r DP-2009-7). Subsequently, in 2016 ASM conducted a review of the faunal remains from the excavations. The human remains of two individuals were identified in these collections.

Based on the information available, human remains representing, at least, two individuals have been reasonably identified. No associated funerary objects are present. The 4,707 unassociated funerary objects are 4,232 ceramics, 457 pieces of flaked stone, four groundstone fragments, and 14 faunal remains. The two individuals were identified during efforts to restore and stabilize unauthorized excavations at Forest Service site number AR03-05-05-213. This site is informally known as the Romero Site because of the Historic occupation of the Romero Family ca. 1844. The site is also a large Hohokam site with an occupation dating from A.D. 425 to A.D. 1450. The site is located on lands administered by the Coronado National Forest, Santa Catalina Ranger District and permitted to the State of Arizona for Catalina State Park. The site location is in Pima County, AZ.

The project included the restoration of up to six unauthorized excavations, here referred to as “pits.” The excavations were conducted in accordance with the requirements of an ARPA permit issued by Coronado National Forest to Archaeology Southwest pursuant to the Archaeological Resources Protection Act. On Wednesday April 13, 2022, a team of archaeologists from Archaeology Southwest and Gila River Indian Community excavated the back dirt pile from one pit. The back dirt was screened for artifacts, and large rocks were set aside for later volumetric computation, to be returned to the pit during final backfill and stabilization. Nearly all the back dirt pile had been processed when human remains of what is likely an individual of Native American heritage were found. As per the Forest Service protocol for inadvertent discoveries, all work was stopped at the location and the area was secured with a tarp and large rocks. The team moved to another pit and began the same work processing the back dirt pile. The work continued the following day April 14th and again, the back dirt pile was nearly processed when human remains of what is likely an individual of Native American heritage were found. Again, work was stopped, and the area was secured. Dr. James Watson of the Arizona State Museum confirmed the remains are consistent with human.

The 436 objects of cultural patrimony are 392 ceramics, one flake, one hammerstone, one deer tooth fragment, one piece of worked wood, six tobacco twigs, one twig segment, nine cane tubes, one saltpeter crystal, two stone mosaic pieces, three shell disk beads, two stone disk beads, 10 turquoise disk beads, one turquoise pendant, one piece of unworked turquoise, and four charcoal samples. Many of the ceramics are sherd disks or modified into secondary vessels. These materials were gathered from Forest Service site number AR03-05-03-78. This site is informally known as Red Cave. The site is located within a large cave in the Whetstone Mountains, approximately 13 miles southwest of Benson, Arizona. The site is located on lands administered by the Coronado National Forest, in the Sierra Vista Ranger District within Pima County, Arizona.

AR03-05-03-78 contains a water-filled basin where much of the gathered material was deposited. The site is interpreted to be a shrine. The large number of Middle Rincon and Late Rincon red-on-brown pottery suggests the site was used by the Hohokam from A.D. 1000 to A.D. 1150. On February 26, 1993, 16 objects were gathered from AR03-05-03-78: one sherd disk, one unworked sherd, one flake, one hammerstone, three cane tubes, one twig, six tobacco stems, one piece of worked wood, and one piece of charcoal. The tobacco is associated with the cane tube. In addition to material gathered in 1993, sherd disks and other modified sherds, wood fragments, cane tubes, saltpeter, and shell and turquoise beads were collected, totaling 420 objects, between March 18, 1973 and August 8, 1990.

Determinations

The Coronado National Forest has determined that:

• The human remains described in this notice represent the physical remains of four individuals of Native American ancestry.

• The 4,707 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 483 objects of cultural patrimony described in this notice have ongoing historical, traditional, or cultural importance central to the Native American group, including any constituent sub-group (such as a band, clan, lineage, ceremonial society, or other subdivision), according to the Native American traditional knowledge of an Indian Tribe or Native Hawaiian organization.

• The Ak-Chin Indian Community; Gila River Indian Community of the Gila River Indian Reservation, Arizona; Salt River Pima-Maricopa Indian Community of the Salt River Reservation, Arizona and the Tohono O'odham Nation of Arizona have priority for disposition of the human remains or cultural item described in this notice.

Claims for Disposition

Written claims for disposition of the human remains or cultural items in this notice must be sent to the appropriate official identified in this notice under ADDRESSES. If no claim for disposition is received by March 19, 2026, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after April 18, 2025. If competing claims for disposition are received, the Coronado National Forest must determine the most appropriate claimant prior to disposition. Requests for joint disposition of the human remains or cultural items are considered a single request and not competing requests. The Coronado National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 19, 2025.
Melanie O'Brien,
Manager, National NAGPRA Program.

[FR Doc. 2025-04611 Filed 3-18-25; 8:45 am]

BILLING CODE 4312-52-P